Title 3—

The President

Proclamation 7931 of September 16, 2005

National Hispanic Heritage Month, 2005

By the President of the United States of America

A Proclamation

Throughout our history, America has been a land of diversity and has benefitted from the contributions of people of different backgrounds brought together by a love of liberty. During National Hispanic Heritage Month, we celebrate the achievements of Hispanic Americans and the significant role they have played in making our Nation strong, prosperous, and free.

The contributions of Hispanic Americans have made a positive impact on every part of our society. Americans of Hispanic descent are astronauts and athletes, doctors and teachers, lawyers and scientists. The vibrancy of our Nation's Hispanic performers enriches music, dancing, and the arts. Hispanic Americans serve at every level of government, including as Attorney General of the United States and Secretary of Commerce. Latino entrepreneurs are starting and growing businesses all across America, creating jobs and opportunities. The hard work and determination of Hispanic Americans continue to inspire all those who dream of a better life for themselves and their families.

Our Nation's Hispanic community has contributed to the advance of freedom abroad and to the defense of freedom at home. In every generation, Hispanic Americans have served valiantly in the United States military. Today there are more than 200,000 Hispanic Americans serving in the Armed Forces, and our Nation is grateful for their courage and sacrifice. In addition, thousands of Hispanic Americans are helping to defend and protect our homeland by serving as police officers and firefighters. All Americans are thankful for their daily work in helping to keep our Nation safe.

During National Hispanic Heritage Month, we join together to recognize the proud history and rich culture of Hispanic Americans. To honor the achievements of Hispanic Americans, the Congress, by Public Law 100-402, as amended, has authorized and requested the President to issue annually a proclamation designating September 15 through October 15 as “National Hispanic Heritage Month.”

NOW, THEREFORE, I, GEORGE W. BUSH, President of the United States of America, do hereby proclaim September 15 through October 15, 2005, as National Hispanic Heritage Month. I call upon public officials, educators, librarians, and all the people of the United States to observe this month with appropriate ceremonies, activities, and programs.

IN WITNESS WHEREOF, I have hereunto set my hand this sixteenth day of September, in the year of our Lord two thousand five, and of the Independence of the United States of America the two hundred and thirtieth.

B

[FR Doc. 05-18975

Filed 9-20-05; 8:45 am]

Billing code 3195-01-P